FEDERAL COMMUNICATIONS COMMISSION

[OMB 3060-1145]

Information Collection Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before July 17, 2017. If you anticipate that you will be submitting comments, but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA, 44 U.S.C. 3501-3520, the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

Title: Structure and Practices of the Video Relay Service Program, CG Docket No. 10-51.

Form Number: N/A.

Type of Review: Extension of a currently approved collection.

Respondents: Business or other for-profit.

Number of Respondents and Responses: 10 respondents; 669 responses.

Estimated Time per Response: 6 minutes (0.1 hours) to 25 hours.

Frequency of Response: Annual, monthly, one-time, and semi-annually reporting requirements; Recordkeeping and Third Party Disclosure requirements.

Obligation to Respond: Required to obtain or retain benefit. The statutory authority for the information collection requirements is found at section 225 of the Communications Act, 47 U.S.C. 225. The law was enacted on July 26, 1990, as Title IV of the ADA, Public Law 101-336, 104 Stat. 327, 366-69.

Total Annual Burden: 1,841 hours. Total Annual Cost: $27,500.

Nature and Extent of Confidentiality: An assurance of confidentiality is not offered because this information collection does not require the collection of personally identifiable information (PII) from individuals.

Privacy Impact Assessment: No impact(s).

Needs and Uses: On April 6, 2011, in document FCC 11-54, the Commission released a Report and Order, published at 76 FR 30841, May 27, 2011, adopting final rules designed to eliminate the waste, fraud and abuse that has plagued the VRS program and had threatened its ability to continue serving Americans who use it and its long-term viability. The Report and Order contains potential information collection requirements with respect to the following seven requirements, all of which were adopted to ensure the sustainability and integrity of the TRS program and the TRS Fund. Though the Report and Order emphasizes VRS, several of the requirements also apply to other forms of TRS.

(1) Provider Certification Under Penalty of Perjury. The Chief Executive Officer (CEO), Chief Financial Officer (CFO), or other senior executive of a TRS provider shall certify, under penalty of perjury, to: (a) Compliance with the Commission's rules; and (b) the accuracy of (1) minutes submitted to the Interstate TRS Fund (Fund) administrator for compensation and (2) cost and demand data submitted to the Fund administrator for the determination of compensation rates.

(2) Requiring Providers to Submit Information about New and Existing Call Centers. VRS providers shall: (a) Submit to the Commission and the TRS Fund administrator certain call center information, twice a year, on April 1st and October 1st; and (b) notify the Commission and the TRS Fund administrator at least 30 days prior to any change to their call centers' locations, including the opening, closing, or relocation of any center.

(3) Data Filed with the Fund Administrator to Support Payment Claims. VRS providers shall submit call data records (CDRs) and speed of answer compliance data to the Fund administrator.

(4) Automated Call Data Collection. TRS providers shall use an automated record keeping system to capture the CDRs.

(5) Record Retention. Internet-based TRS providers shall retain the CDRs that are used to support payment claims submitted to the Fund administrator for a minimum of five years, in an electronic format.

(6) Third-party Agreements. VRS providers shall: (a) Maintain copies of all third-party contracts or agreements and make them available to the Commission and the TRS Fund administrator upon request; and (b) describe all agreements in connection with marketing and outreach activities in their annual submissions to the TRS Fund administrator.

(7) Whistleblower Protection. TRS providers shall provide information about these TRS whistleblower protections to all employees and contractors, in writing.

Federal Communications Commission.
Marlene H. Dortch,
Secretary, Office of the Secretary.

[FR Doc. 2017-09892 Filed 5-15-17; 8:45 am]

BILLING CODE 6712-01-P